COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add product(s) and service(s) to the Procurement List that will be furnished by nonprofit agencies employing persons who are blind or have other severe disabilities, and deletes product(s) and service(s) previously furnished by such agencies.

DATES: Comments must be received on or before: July 13, 2025.

ADDRESSES: Committee for Purchase From People Who Are Blind or Severely Disabled, 355 E Street SW, Suite 325, Washington, DC 20024.

FOR FURTHER INFORMATION CONTACT: For further information or to submit comments contact: Michael R. Jurkowski, Telephone: (703) 489-1322 or email CMTEFedReg@AbilityOne.gov.

SUPPLEMENTARY INFORMATION: This notice is published pursuant to 41 U.S.C. 8503 (a)(2) and 41 CFR 51-2.3. Its purpose is to provide interested persons an opportunity to submit comments on the proposed actions.

Additions

The Committee for Purchase From People Who Are Blind or Severely Disabled (operating as the U.S. AbilityOne Commission) is proposing to add products listed below to the Procurement List that will be furnished by nonprofit agencies employing persons who are blind or have other severe disabilities.

In accordance with 41 CFR 51-5.3(b), the Committee intends to add the product listed below to the Procurement List as a mandatory for purchase federal agencies with the proposed qualified nonprofit agency as the authorized source of supply. Prior to adding the products to the Procurement List, the Committee will consider other pertinent information, including information from Government personnel and relevant comments from interested parties regarding the Committee's intent to geographically limit this services requirement.

The following product(s) are proposed for addition to the Procurement List for production by the nonprofit agencies listed:

Product(s)

NSN(s)—Product Name(s):

650022001N—Catheter, Urethral, Intermittent, Coude-Tip, One Drainage Eye 12Fr

650022002N—Catheter, Urethral, Intermittent, Coude-Tip, One Drainage Eye 14Fr

650022003N—Catheter, Urethral, Intermittent, Coude-Tip, One Drainage Eye 16Fr

650022004N—Catheter, Urethral, Intermittent, Coude-Tip, One Drainage Eye 18Fr

650022005N—Catheter, Urethral, Intermittent, Coude-Tip, One Drainage Eye 20Fr

650022007N—Catheter, Urethral, Intermittent, Coude-Tip, Two Drainage Eye 10Fr

650022008N—Catheter, Urethral, Intermittent, Coude-Tip, Two Drainage Eye 12Fr

650022009N—Catheter, Urethral, Intermittent, Coude-Tip, Two Drainage Eye 14Fr

650022010N—Catheter, Urethral, Intermittent, Coude-Tip, Two Drainage Eye 16Fr

650022011N—Catheter, Urethral, Intermittent, Coude-Tip, Two Drainage Eye 18Fr

650022012N—Catheter, Urethral, Intermittent, Coude-Tip, Two Drainage Eye 20Fr

650022013N—Catheter, Urethral, Intermittent, Straight-Tip, 8Fr

650022014N—Catheter, Urethral, Intermittent, Straight-Tip, 10Fr

650022015N—Catheter, Urethral, Intermittent, Straight-Tip, 12Fr

650022016N—Catheter, Urethral, Intermittent, Straight-Tip, 14Fr

650022017N—Catheter, Urethral, Intermittent, Straight-Tip, 16Fr

650022018N—Catheter, Urethral, Intermittent, Straight-Tip, 18Fr

650022019N—Kit, Catheter, Urethral, Intermittent, Straight-Tip with Insertion Supplies, 14Fr, Latex

650022020N—Kit, Catheter, Urethral, Intermittent, Straight-Tip with Insertion Supplies, 14Fr, Vinyl

650022021N—Kit, Catheter, Urethral, Intermittent, Coude-Tip with Insertion Supplies, 14Fr, Latex

Authorized Source of Supply: BOSMA Enterprises, Indianapolis, IN

Contracting Activity: DEFENSE LOGISTICS AGENCY, DLA TROOP SUPPORT

Distribution: B-List

Service(s)

In accordance with 41 CFR 51-5.3(b), the Committee intends to add the services requirement listed below to the Procurement List as a mandatory purchase only for contracting activity and location listed with the proposed qualified nonprofit agency as the authorized source of supply. Prior to adding the service to the Procurement List, the Committee will consider other pertinent information, including information from Government personnel and relevant comments from interested parties regarding the Committee's intent to geographically limit this services requirement.

Service Type: Grounds Maintenance

Mandatory for: GSA PBS Region 9, Frank Hagel Federal Building, Richmond, CA

Authorized Source of Supply: PRIDE Industries, Roseville, CA

Contracting Activity: PUBLIC BUILDINGS SERVICE, PBS R9 AMD SERVICES

Contracting Branch

Deletions

The following product(s) and service(s) are proposed for deletion from the Procurement List:

Product(s)

NSN(s)—Product Name(s):

8520-00-NIB-0109—PURELL/SKILCRAFT Instant Hand Sanitizer Value Pack

8520-00-NIB-0113—PURELL/SKILCRAFT Instant Hand Sanitizer, Pump Bottle, 45ml

8520-00-NIB-0114—PURELL/SKILCRAFT Instant hand Sanitizer, Canister 15oz

8520-00-NIB-0115—PURELL/SKILCRAFT Instant hand Sanitizer, Foam Dispenser 15oz

8520-00-NIB-0117—PURELL/SKILCRAFT Instant Hand Sanitizer, Gel, 1200ml

8520-00-NIB-0118—PURELL/SKILCRAFT Instant Hand Sanitizer, Gel, Alcohol based, 1200ml

8520-00-NIB-0119—PURELL/SKILCRAFT Instant Hand sanitizer, Foam, Non-Aerosol, 1200ml

8520-00-NIB-0121—PURELL/SKILCRAFT Instant Hand Sanitzer, Gel, 1200ml

8520-00-NIB-0122—PURELL/SKILCRAFT Instant Hand sanitizer, Foam, 1000ml

88520-00-NIB-0130—Instant Hand Sanitizer, Refill, Gel,1.2l

8520-00-NIB-0137—Instant Hand Sanitizer, Dermaglycerin, Foam, 535ml

8520-00-NIB-0158—Instant Hand Sanitizer, Refill, Foam, Skin Nourishing, Advanced Green Certified, 1200ml

520-00-NIB-0123—PURELL/SKILCRAFT Instant Hand Sanitizer, Alcohol based 1000ml

Authorized Source of Supply: Travis Association for the Blind, Austin, TX

Contracting Activity: STRATEGIC ACQUISITION CENTER, FREDERICKSBURG, VA

NSN(s)—Product Name(s):

8520-00-NIB-0141—Purell Instant Hand Sanitizer, Alcohol-Free, Foam, 535 ml Pump Bottle

8520-00-NIB-0142—Purell Instant Hand Sanitizer, Alcohol-Free, Foam, 45 ml Pump Bottle

8520-00-NIB-0144—Purell Instant Hand Sanitizer, Alcohol-Free, Foam, 1200 ml ADX Cartridge Refill

Authorized Source of Supply: Travis Association for the Blind, Austin, TX

Contracting Activity: OFFICE OF PROCUREMENT OPERATIONS, WASHINGTON, DC

NSN(s)—Product Name(s): 7920-00-633-9905—Sponge, Cellulose, Fine-Textured, Natural, 2-3/4″ x 4-⅜″ x ⅞″

Authorized Source of Supply: MISSISSIPPI INDUSTRIES FOR THE BLIND (INC), Jackson, MS

Contracting Activity: GSA/FSS GREATER SOUTHWEST ACQUISITI, FORT WORTH, TX

NSN(s)—Product Name(s): 8465-00-682-6741—Protector, Trousers, Pistol Holster

Authorized Source of Supply: Alabama Industries for the Blind, Talladega, AL

Contracting Activity: DLA TROOP SUPPORT, PHILADELPHIA, PA

NSN(s)—Product Name(s): 7520-00-NIB-0449—Pencil, Neon, Custom Imprint, Navy

Authorized Source of Supply: Industries for the Blind and Visually Impaired, Inc., West Allis, WI

Contracting Activity: U S FLEET FORCES COMMAND, NORFOLK, VA

NSN(s)—Product Name(s): 6545-00-NIB-0096—Kit, Ambulance Pack, Disposable, 5X Gown

Authorized Source of Supply: BOSMA Enterprises, Indianapolis, IN

Contracting Activity: STRATEGIC ACQUISITION CENTER, FREDERICKSBURG, VA

NSN(s)—Product Name(s):

5510-00-NSH-0039—Stake, Wood, Survey

5510-00-NSH-0040—Hub, Full Length

Authorized Source of Supply: Sunrise Enterprises of Roseburg, Inc., Roseburg, OR

Contracting Activity: WESTERN FEDERAL LANDS HIGHWAY DIVISION, VANCOUVER, WA

NSN(s)—Product Name(s):

8415-01-363-8683—Drawers, Chemical Protective, CPU, Marine Corps, Long, Black, 26

8415-01-363-8684—Drawers, Chemical Protective, CPU, Marine Corps, Long, Black, 28

8415-01-363-8685—Drawers, Chemical Protective, CPU, Marine Corps, Long, Black, 30

8415-01-363-8686—Drawers, Chemical Protective, CPU, Marine Corps, Long, Black, 32

8415-01-363-8687—Drawers, Chemical Protective, CPU, Marine Corps, Long, Black, 34

8415-01-363-8688—Drawers, Chemical Protective, CPU, Marine Corps, Long, Black, 36

8415-01-363-8689—Drawers, Chemical Protective, CPU, Marine Corps, Long, Black, 38

8415-01-363-8690—Drawers, Chemical Protective, CPU, Marine Corps, Long, Black, 40

8415-01-363-8691—Drawers, Chemical Protective, CPU, Marine Corps, Long, Black, 42

8415-01-488-5719—Drawers, Chemical Protective, CPU, Marine Corps, Long, Black, 44

8415-01-488-5720—Drawers, Chemical Protective, CPU, Marine Corps, Long, Black, 48

8415-01-488-5722—Drawers, Chemical Protective, CPU, Marine Corps, Long, Black, 46

8415-01-501-7143—Jacket, Extreme Cold Weather Wind Resistant Fleece Layer 5, SPEAR, Army, Black, SR

8415-01-501-7406—Jacket, Extreme Cold Weather Wind Resistant Fleece Layer 5, SPEAR, Army, Black, MR

8415-01-501-7407—Jacket, Extreme Cold Weather Wind Resistant Fleece Layer 5, SPEAR, Army, Black, LR

8415-01-501-7408—Jacket, Extreme Cold Weather Wind Resistant Fleece Layer 5, SPEAR, Army, Black, LL

8415-01-501-7409—Jacket, Extreme Cold Weather Wind Resistant Fleece Layer 5, SPEAR, Army, Black, XLR

8415-01-501-7410—Jacket, Extreme Cold Weather Wind Resistant Fleece Layer 5, SPEAR, Army, Black, XLL

8415-01-461-8336—Shirt, Cold Weather Fleece, Army, Unisex, Long Sleeve, Black, Small

8415-01-461-8337—Shirt, Cold Weather Fleece, Army, Unisex, Long Sleeve, Black, Medium

8415-01-461-8341—Shirt, Cold Weather Fleece, Army, Unisex, Long Sleeve, Black, Large

8415-01-461-8356—Shirt, Cold Weather Fleece, Army, Unisex, Long Sleeve, Black, X Large

8415-01-472-3526—Shirt, Cold Weather Fleece, Army, Unisex, Long Sleeve, Black, X Small

Authorized Source of Supply: Peckham Vocational Industries, Inc., Lansing, MI

Contracting Activity: DLA TROOP SUPPORT, PHILADELPHIA, PA

NSN(s)—Product Name(s):

8470-00-NSH-0004—Backpack, MBSS

8470-00-NSH-0007—Pouch, Magazine, Single, MBSS

8470-00-NSH-0008—Pouch, Magazine, Double, MBSS

8470-00-NSH-0009—Pouch, Magazine, Triple, MBSS

8470-00-NSH-0010—Pocket, General Purpose, MBSS

8470-00-NSH-0011—Holder, Chemlite, MBSS

8470-00-NSH-0002—Insert, Flotation, Hardcell

Authorized Source of Supply: Chautauqua County Chapter, NYSARC, Jamestown, NY

Contracting Activity: W6QK ACC-APG NATICK, NATICK, MA

NSN(s)—Product Name(s):

6545-00-NSH-2003—USMC Individual First Aid Kit, CD Holder

6545-00-NSH-2010—Training Kit, USMC Individual First Aid Kit

Authorized Source of Supply: Chautauqua County Chapter, NYSARC, Jamestown, NY

Contracting Activity: COMMANDER, QUANTICO, VA

NSN(s)—Product Name(s):

8415-01-461-8336—Shirt, Cold Weather Fleece, Army, Unisex, Long Sleeve, Black, Small

8415-01-461-8337—Shirt, Cold Weather Fleece, Army, Unisex, Long Sleeve, Black, Medium

8415-01-461-8341—Shirt, Cold Weather Fleece, Army, Unisex, Long Sleeve, Black, Large

8415-01-461-8356—Shirt, Cold Weather Fleece, Army, Unisex, Long Sleeve, Black, X Large

8415-01-472-3526—Shirt, Cold Weather Fleece, Army, Unisex, Long Sleeve, Black, X Small

Authorized Source of Supply: Goodwill Industries of South Florida, Inc., Miami, FL

Authorized Source of Supply: Peckham Vocational Industries, Inc., Lansing, MI

Authorized Source of Supply: ReadyOne Industries, Inc., El Paso, TX

Contracting Activity:W6QK ACC-APG NATICK, NATICK, MA

Contracting Activity: DLA TROOP SUPPORT, PHILADELPHIA, PA

NSN(s)—Product Name(s):

8415-00-NSH-1129—Ranger Load Carrying System

8415-00-NSH-1140—Ranger Load Carrying System Kit Bag

8415-00-NSH-0622—Load Carriage System

8465-01-A12-9083—M203 Three Round Pouch

8465-01-A12-9490—M203 Illumination Round Pouch

8465-01-F01-0336—M203 Pouch Kit

Authorized Source of Supply: Chautauqua County Chapter, NYSARC, Jamestown, NY

Contracting Activity: W6QK ACC-APG NATICK, NATICK, MA

NSN(s)—Product Name(s):

7690-00-NSH-0022—Congressional Record Microfiche

7670-00-NSH-0002—Microfiche, Federal Register

7670-00-NSH-0001—Microfiche,Subject Headings & Name Authorities

Mandatory Source of Supply: Alliance, Inc., Baltimore, MD

Contracting Activity: Government Printing Office, Washington, DC

Service(s)

Service Type: Switchboard Operation

Mandatory for: Department of Veteran Affairs, VA Central California Health Care System, Fresno, CA

Contracting Activity: VETERANS AFFAIRS, DEPARTMENT OF, 261-NETWORK CONTRACT OFC21 (00261)

Service Type: Custodial

Mandatory for: BLM, Lower Potomac Field Station Office, Main Office & Bldg. 2 & Belmont Office & Environmental Education Center, Lorton, VA

Authorized Source of Supply: MVLE, Inc., Springfield, VA

Contracting Activity: BUREAU OF LAND MANAGEMENT, BUREAU OF LAND MANAGEMENT

Service Type: Document Management

Mandatory for: Federal Communications Commission, Washington, DC

Authorized Source of Supply: Melwood Horticultural Training Center, Inc., Upper Marlboro, MD

Contracting Activity: FEDERAL COMMUNICATIONS COMMISSION, FCC

Service Type: Custodial Service

Mandatory for: National Park Service, Colonial National Historical Park, Yorktown, VA

Authorized Source of Supply: VersAbility Resources, Inc., Hampton, VA

Contracting Activity: NATIONAL PARK SERVICE, NER CONSTRUCTION/IA/AE MABO (42000)

Service Type: Medical Transcription

Mandatory for: Department of Veterans Affairs, VA San Diego Healthcare System, 3350 La Jolla Village Drive, San Diego, CA

Authorized Source of Supply: Goodwill Industries of San Antonio Contract Services, San Antonio, TX

Contracting Activity: VETERANS AFFAIRS, DEPARTMENT OF, 262-NETWORK CONTRACT OFFICE 22

Service Type: Medical Transcription

Mandatory for: Department of Veterans Affairs, VA Greater Los Angeles Healthcare System, 11301 Wilshire Boulevard, Los Angeles, CA

Authorized Source of Supply: Goodwill Industries of San Antonio Contract Services, San Antonio, TX

Contracting Activity: VETERANS AFFAIRS, DEPARTMENT OF, 262-NETWORK CONTRACT OFFICE 22

Service Type: Custodial and Related Services

Mandatory for: GSA PBS Region 5, Henson Robinson House, Springfield, IL

Authorized Source of Supply: Challenge Unlimited, Inc., Alton, IL

Contracting Activity: PUBLIC BUILDINGS SERVICE, PBS R5

Service Type: Administrative Service, Administrative Services

Mandatory for: NASA, Goddard Institute for Space Studies, New York, NY

Authorized Source of Supply: Melwood Horticultural Training Center, Inc., Upper Marlboro, MD

Contracting Activity: NATIONAL AERONAUTICS AND SPACE ADMINISTRATION, NASA GODDARD SPACE FLIGHT CENTER

Service Type: Administrative Services

Mandatory for: USDA, Economic Research Service, Office of the Administrator, Washington, DC

Authorized Source of Supply: ServiceSource, Inc., Oakton, VA

Contracting Activity: AGRICULTURAL RESEARCH SERVICE, USDA ARS NCRBSC ACQ BRANCH

Service Type: Administrative Services

Mandatory for: Department of Agriculture: 1031 New York Avenue, NW, Economic Research Service (ERS)

Authorized Source of Supply: ServiceSource, Inc., Oakton, VA

Contracting Activity: AGRICULTURAL RESEARCH SERVICE, USDA ARS NCRBSC ACQ BRANCH

Service Type: Grounds Maintenance

Mandatory for: US Coast Guard, Air Station-Savannah, Savannah, GA

Authorized Source of Supply: Goodwill Industries of the Coastal Empire, Inc., Savannah, GA

Contracting Activity: U.S. COAST GUARD, BASE MIAMI(00028)

Service Type: Grounds Maintenance

Mandatory for: Department of Energy, Southwest Power Administration, 2858 South Golden Avenue, Springfield, MO

Authorized Source of Supply: SWI Industrial Solutions, Springfield, MO

Contracting Activity: ENERGY, DEPARTMENT OF, PMAS-SOUTHWESTERN POWER ADMIN

Michael R. Jurkowski,
Director, Business Operations.

[FR Doc. 2025-10829 Filed 6-12-25; 8:45 am]

BILLING CODE 6353-01-P